DEPARTMENT OF VETERANS AFFAIRS

[OMB Control No. 2900-0877]

Agency Information Collection Activity: Freedom of Information Act (FOIA) or Privacy Act (PA) Request, Priority Processing Request and Document/Evidence Submission

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0877.

FOR FURTHER INFORMATION CONTACT: Danny S. Green, (202) 421-1354 or email Danny.Green2@va.gov. Please refer to “OMB Control No. 2900-0877” in any correspondence.

SUPPLEMENTARY INFORMATION:

Authority: Public Law 104-13; 44 U.S.C. 3501-3521.

Title: Freedom of Information Act (FOIA) or Privacy Act (PA) Request (VA Form 20-10206), Priority Processing Request (VA Form 20-10207) and Document/Evidence Submission (VA Form 20-10208).

OMB Control Number: 2900-0877.

Type of Review: Extension of a previously approved collection.

Abstract: VA Form 20-10206 is used by a claimant to request access to Federal agency records as long as the record is not exempt from release by one of the nine FOIA exemptions. This form standardizes submission of Freedom of Information Act (FOIA) and Privacy Act (PA) requests received from claimants in order to facilitate the identification and retrieval of requested records. VA Form 20-10207 is used by claimant's to notify VA of an urgent or immediate need due to change in status or circumstance for priority processing of claim. VA Form 20-10208 is used to identify and associate additional evidence or information in support of claim.

An agency may not conduct or sponsor, and a person is not required to respond to a collection of information unless it displays a currently valid OMB control number. The Federal Register Notice with a 60-day comment period soliciting comments on this collection of information was published at 85 FR 29031 on May 14, 2020.

Affected Public: Individuals or households.

Estimated Annual Burden: 50,000 hours.

Estimated Average Burden per Respondent: 6 minutes.

Frequency of Response: One time.

Estimated Number of Respondents: 500,000.

By direction of the Secretary.
Danny S. Green,
VA Clearance Officer, Office of Quality, Performance and Risk, Department of Veterans Affairs.

[FR Doc. 2020-15339 Filed 7-15-20; 8:45 am]

BILLING CODE 8320-01-P